OFFICE OF THE UNITED STATES TRADE REPRESENTATIVE

Request for Comments Concerning Compliance With Telecommunications Trade Agreements

AGENCY: Office of the United States Trade Representative

ACTION: Request for written submissions from the public.

SUMMARY: Pursuant to section 1377 of the Omnibus Trade and Competitiveness Act of 1988 (19 U.S.C. 3106) (“Section 1377”), the Office of the United States Trade Representative (“USTR”) requests comments on: the operation and effectiveness of the World Trade Organization (“WTO”) Basic Telecommunications Agreement; the telecommunications provisions of the North American Free Trade Agreement (“NAFTA”); and, other telecommunications trade agreements in force with respect to the United States, including those with the Asia Pacific Economic Cooperation (“APEC”) members, the European Union (“EU”), the Inter-American Telecommunications Commission (“CITEL”), Japan, Korea, Mexico and Taiwan. The USTR will conclude the review by March 31, 2002.

DATES: Submissions must be received by 12 noon on January 28, 2002.

ADDRESSES: Gloria Blue, Executive Secretary, Trade Policy Staff Committee, ATTN: Section 1377 Comments, Office of the United States Trade Representative, 600 17th Street, NW, Washington, DC 20508

FOR FURTHER INFORMATION CONTACT: Kenneth Schagrin, Office of Industry and Telecommunications (202) 395-5663; or Demetrios Marantis, Office of the General Counsel (202) 395-7305.

SUPPLEMENTARY INFORMATION: Section 1377 requires the USTR to review annually the operation and effectiveness of all U.S. trade agreements regarding telecommunications products and services of the United States that are in force with respect to the United States. The purpose of the review is to determine whether any act, policy, or practice of an economy that has entered into a telecommunications trade agreement with the United States is inconsistent with the terms of such agreement, or otherwise denies to U.S. firms, within the context of the terms of such agreements, mutually advantageous market opportunities. For the current review, the USTR seeks comments on whether:

(1) any WTO Member is acting inconsistently with commitments under the WTO Basic Telecommunications Agreement (including the WTO Reference Paper) or with other WTO obligations (including the Annex on Telecommunications), in a manner that affects market opportunities for U.S. telecommunications products and services;

(2) Canada or Mexico has failed to comply with NAFTA telecommunications commitments (including under Chapters 11, 12, and 13 of that agreement);

(3) APEC or CITEL members, the EU, Japan, Korea, Mexico or Taiwan have failed to abide by commitments under additional telecommunications agreements with the United States.¹

¹ These agreements include:

• Mutual Recognition Agreements for conformity assessment of telecommunications equipment with the EU (1997), APEC countries (1998), and CITEL countries (1999) and

• Bilateral Agreements with:

Japan: on Nippon Telegraph and Telephone procurement (1999); public sector procurement of telecommunications products and services (1994); international value-added network services (1990-91); open government procurement of all satellites, except for government research and development satellites (1990); network channel terminating equipment (1990); and cellular and third-party radio systems (1989) and cellular radio systems (1994);

Korea: on type approval of telecommunications equipment (1992/1996), transparent standard-setting processes (1992/1997), and non-discriminatory access to Korea Telecommunication's procurement of telecommunications products (1992/1996);

Mexico: on test data acceptance agreements between product safety testing laboratories (1997); and

Taiwan: interconnection pricing for provision of wireless services (1998) and, licensing and provision of wireless services through the establishment of a competitive, transparent and fair wireless market (1996).

(4) outstanding issues remains from the 2000-2001 review conducted under Section 1377.²

² See USTR Press Release 01-20 (available at www.ustr.gov) for detailed information of the results of the 2000-2001 Section 1377 review, which considered practices of Colombia, Mexico, Japan, South Africa, and Taiwan as well as five EU Member States (France, Germany, Italy, Spain, the United Kingdom).

For further details on these agreements, please see 63 FR 1140 (January 8, 1998).

Public Comment: Requirements for Submissions

The USTR invites submissions concerning the operation and effectiveness of the WTO Basic Telecommunications Agreement; the NAFTA; and other telecommunications trade agreements in force with respect to the United States, including those with APEC members, CITEL members, the EU, Japan, Korea, Mexico and Taiwan.

Interested persons must provide fifteen copies of any submission, in English, to Gloria Blue, Office of the United States Trade Representative, by noon on January 23, 2002. Interested parties must also identify on the first page of the comments the telecommunications trade agreement(s) discussed therein.

All comments will be placed in the USTR Reading Room for inspection shortly after the filing deadline, except business confidential information exempt from public inspection in accordance with 15 CFR 2003.6. Confidential information submitted in accordance with 15 CFR 2003.6, must be clearly marked “BUSINESS CONFIDENTIAL” in a contrasting color ink at the top of each page on each of 15 copies, and must be accompanied by 15 copies of a non-confidential summary of the confidential information. The non-confidential summary will be placed in the USTR Public Reading Room.

An appointment to review the comments may be made by calling Brenda Webb at (202) 395-6186. The USTR Reading Room is open to the public from 9:30 a.m. to 12 noon, and from 1 p.m. to 4 p.m., Monday through Friday, and is located in Room 3 of 1724 F Street, N.W.

Carmen Suro-Bredie,
Chair, Trade Policy Staff Committee.

[FR Doc. 01-31795 Filed 12-26-01; 8:45 am]

BILLING CODE 3190-01-P